DEPARTMENT OF THE INTERIOR

Geological Survey

[Docket No. USGS-2025-0072; GX25GH00COM0000]

Request for Nominations for Members To Serve on the National Volcano Early Warning System Advisory Committee

AGENCY: U.S. Geological Survey, Interior.

ACTION: Request for nominations.

SUMMARY: The Department of the Interior (DOI) is seeking nominations to serve on the National Volcano Early Warning System Advisory Committee (NVEWSAC). The NVEWSAC will assist the Secretary in implementing the National Volcano Early Warning and Monitoring System (NVEWS) and provide an annual report to the Secretary that describes its activities and related scientific research.

DATES: Nominations for the NVEWSAC must be received by October 9, 2025.

ADDRESSES: NVEWSAC nominations can be sent to Gari Mayberry via email at gmayberry@usgs.gov. Additional information about NVEWSAC may be found at https://www.usgs.gov/programs/VHP/national-volcano-early-warning-system-advisory-committee-nvewsac.

FOR FURTHER INFORMATION CONTACT: Inquiries regarding NVEWSAC can be directed to Gari Mayberry, Volcano Hazard Program Coordinator, USGS, by mail at 12201 Sunrise Valley Drive, MS 905, Reston, VA 20192; by email at gmayberry@usgs.gov; or by telephone at (703) 648-6711.

SUPPLEMENTARY INFORMATION: The NVEWSAC is established under Title V of the John Dingell Jr., Conservation, Management and Recreation Act, March 12, 2019 (Pub. L. 116-9) and is regulated by the Federal Advisory Committee Act (FACA). The NVEWSAC assists the Secretary in implementing NVEWS and provides an annual report to the Secretary that describes its activities and related scientific research. The NVEWSAC includes up to 30 members and will meet 1-2 times per year.

Membership will be comprised of representatives from Federal Agencies and non-Federal experts who are qualified physical scientists, natural scientists, volcanologists, geochemists, atmospheric scientists, meteorologists, engineers, remote-sensing scientists, hydrologists, and information technologists. Non-Federal experts will be appointed as Special Government Employees (SGEs). Individuals may also be selected from state and local governments, academia, and the volcano science community, who will be appointed as representative members of those organizations. Nominations received through this call may be used to fill future vacancies on the NVEWSAC.

Please be aware that applicants selected to serve as SGEs will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact 202-208-7960 or DOI_Ethics@sol.doi.gov with any questions about the ethics requirements for members appointed as SGEs.

Nominees should have established records of distinguished service, be familiar with relevant areas of geology, volcanology, geography, hydrology, atmospheric science/meteorology, ecology, and related fields and have at least a general familiarity with U.S. Geological Survey programmatic activities relating to its participation in NVEWS. The candidate's field of expertise should be specified in a brief nomination letter, along with a resume providing adequate description of the nominee's qualifications, including information that would enable DOI to make an informed decision regarding membership and permit DOI to contact a potential member. Nominations are to be sent to the email address listed under ADDRESSES. Final selection and appointment of Committee members will be made by the Secretary of the Interior.

(Authority: 5 U.S.C. Ch. 10.)

Gari Mayberry,
Volcano Hazard Program Coordinator, Natural Hazards Mission Area.

[FR Doc. 2025-17252 Filed 9-8-25; 8:45 am]

BILLING CODE 4338-11-P